EQUAL EMPLOYMENT OPPORTUNITY COMMISSION

29 CFR Part 1635

RIN 3046-AB02

Regulations Under the Genetic Information Nondiscrimination Act of 2008; Correction

AGENCY: Equal Employment Opportunity Commission.

ACTION: Correcting amendment.

SUMMARY: The Equal Employment Opportunity Commission (“EEOC” or “Commission”) is hereby making a technical amendment to the regulations implementing Title II of the Genetic Information Nondiscrimination Act of 2008 (“GINA”). Currently, the authority citation includes a typographical error. This final action will make the authority citation accurate. The amendment is administrative in nature and does not make any substantive changes to the regulations governing GINA.

DATES: This correction is effective March 22, 2023.

FOR FURTHER INFORMATION CONTACT: Kerry Leibig, Senior Attorney Advisor, at 202-921-2663 or kerry.leibig@eeoc.gov.

SUPPLEMENTARY INFORMATION: Title II of GINA was enacted to protect job applicants, current and former employees, labor union members, and apprentices and trainees from discrimination based on their genetic information. The regulations implementing the law were first published in the Federal Register on November 9, 2009 (75 FR 68912). The regulations were amended by a final rule published in the Federal Register on May 17, 2016 (81 FR 31143) and then partially rescinded in a final rule published in the Federal Register on December 20, 2018 (83 FR 65296). When the May 2016 final rule was published, a typographical error was introduced into the citation to the statutory authority for the rule. The authority citation currently provided lists 29 U.S.C. 2000ff as the statutory authority for the regulations, instead of 42 U.S.C. 2000ff. This technical amendment corrects that error.

List of Subjects in 29 CFR Part 1635

Administrative practice and procedure, Equal employment opportunity.

Accordingly, 29 CFR part 1635 is corrected by making the following correcting amendment:

PART 1635—GENETIC INFORMATION NONDISCRIMINATION ACT OF 2008

1. The authority citation for part 1635 is revised to read as follows:

Authority: 110 Stat. 233; 42 U.S.C. 2000ff.

Dated: March 15, 2023.
For the Commission,
Charlotte A. Burrows,
Chair.

[FR Doc. 2023-05679 Filed 3-21-23; 8:45 am]

BILLING CODE 6570-01-P